DEPARTMENT OF COMMERCE

National Oceanic and Atmospheric Administration

United States Global Change Research Program

AGENCY: Office of Oceanic and Atmospheric Research (OAR), National Oceanic and Atmospheric Administration (NOAA), Department of Commerce (DOC).

ACTION: Request for Public Nominations for Technical Contributors.

SUMMARY: The U.S. Global Change Research Program (USGCRP) is initiating an Interagency Special Report on Physical Climate Science (referred to as “the Report” throughout this notice). The focus of the Report will be an update to the physical climate science presented in the 2014 National Climate Assessment (NCA). Specifically, the Report will update Chapter 2 and Appendices 3 and 4 of the 2014 NCA (http://www.globalchange.gov/nca3-downloads-materials). The report will provide updated climate science findings and projections, and will be an important input to the authors of the next quadrennial NCA, expected in 2018.

The Report will be a product of the USGCRP, organized and led by an interagency team. This request for public engagement seeks nominations for technical contributors with expertise in climate data sets and trends, climate processes and feedbacks, global/regional climate models and associated projections, climate extremes, attribution and detection studies, and particular components of the Earth system, as well as other physical science disciplines. Refer to the Report prospectus (accessible via www.globalchange.gov/notices for further information on the goals, outline, and timeline for the report, as well as the process for technical contributors' involvement.

The report will adhere to the Information Quality Act requirements http://www.cio.noaa.gov/services_programs/info_quality.html for quality, transparency, and accessibility as appropriate for a Highly Influential Scientific Assessment (HISA).

DATES: Nominations for technical contributors must be received by the USGCRP within 15 days after the publication date of this notice.

ADDRESSES: Nominations for technical contributors must be submitted electronically via a web form accessible via https://www.globalchange.gov/notices. A short CV of no more than 4 pages must be included.

Instructions: Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT: USGCRP Contact: David Dokken; telephone 202-419-3473; or email: ddokken@usgcrp.gov.

SUPPLEMENTARY INFORMATION:

Call for Nominations for Technical Contributors

This notice seeks nominations for technical contributors to the Report with pertinent subject matter expertise and scientific background. Potential technical contributors should be accomplished scholarly writers and have demonstrated scientific and technical expertise and academic proficiency in at least one of the physical climate science topics outlined in the prospectus, accessible via https://www.globalchange.gov/notices. Submissions must demonstrate that nominees have demonstrated technical backgrounds such that they could contribute to the development of a robust scientific, technical assessment as subject matter experts in one or more of the topics listed in the prospectus.

Responses to this request must be made within the 15-day call for nominations for technical contributors, beginning the publication date of this notice. Users can access the nominations form via www.globalchange.gov/notices. Interested persons may nominate themselves or third parties, and may nominate more than one person. Each nomination must include: (1) The nominee's full name, title, institutional affiliation, and contact information; (2) the nominee's area(s) of expertise; (3) a short description of his/her qualifications relative to contributing to the report; and (4) a current resume [maximum length four (4) pages]. Nominations will be reviewed by a scientific steering committee, and nominees may be invited to participate as technical contributors to the Report. Selected experts would be informed no later than two weeks after close of the nominations window.

Dated: Wednesday, March 16, 2016.
Dan Barrie,
Program Manager, Assessments Program, NOAA, Climate Program Office.
Dated: March 25, 2016.
Gary C. Matlock,
Acting Deputy Assistant Administrator, Oceanic and Atmospheric Research.

[FR Doc. 2016-07208 Filed 3-30-16; 8:45 am]

BILLING CODE P